DEPARTMENT OF DEFENSE

Defense Acquisition Regulations System

48 CFR Parts 232, 242, and 252

[Docket DARS-2018-0042]

RIN 0750-AJ28

Performance-Based Payments and Progress Payments (DFARS Case 2017-D019)

AGENCY: Defense Acquisition Regulations System, Department of Defense (DoD).

ACTION: Announcement of public meeting.

SUMMARY: DoD is hosting a public meeting on October 10, 2018, to obtain views of experts and interested parties in Government and the private sector regarding revising policies and procedures with regard to customary progress payment rates and maximum performance-based payment rates for DoD contracts.

DATES: Comment date: Comments on the proposed rule should be submitted in writing to the address shown below on or before October 23, 2018, to be considered in the formation of a final rule.

Public meeting date: The public meeting will be held on October 10, 2018, from 9 a.m. to 12 p.m., EST. Registration to attend this meeting must be received by October 4, 2018, at 12 p.m., EST. Further information for the public meeting may be found under the heading SUPPLEMENTARY INFORMATION.

ADDRESSES: Public meeting: The public meeting will be held at the Mark Center Auditorium, 4800 Mark Center Drive, Alexandria, VA 22350-3603. The Mark Center Auditorium is located on level B-1 of the building.

Submission of comments: Submit comments identified by DFARS Case 2017-D019, using any of the following methods:

○ Federal eRulemaking Portal: http://www.regulations.gov. Search for “DFARS Case 2017-D019.” Select “Comment Now” and follow the instructions provided to submit a comment. Please include “DFARS Case 2017-D019” on any attached documents.

○ Email: osd.dfars@mail.mil. Include DFARS Case 2017-D019 in the subject line of the message.

○ Fax: 571-372-6094.

○ Mail: Defense Acquisition Regulations System, Attn: Ms. Amy G. Williams, OUSD(A&S)DPC/DARS, Room 3B941, 3060 Defense Pentagon, Washington, DC 20301-3060.

Comments received generally will be posted without change to http://www.regulations.gov, including any personal information provided. To confirm receipt of your comment(s), please check www.regulations.gov, approximately two to three days after submission to verify posting (except allow 30 days for posting of comments submitted by mail).

FOR FURTHER INFORMATION CONTACT: Ms. Amy Williams, DPC/DARS, at 571-372-6106.

SUPPLEMENTARY INFORMATION:

I. Background

On August 24, 2018, DoD published a proposed rule in the Federal Register at 83 FR 42831 to implement section 831 of the National Defense Authorization Act for Fiscal Year 2017, which addresses the preference for performance-based payments, and to streamline the performance-based payment process. DoD is also proposing to amend the Defense Federal Acquisition Regulation Supplement to revise progress payments and performance-based payments policies for DoD contracts in order to increase its business effectiveness and efficiency as well as to provide an opportunity for both small and other than small entities to qualify for increased customary progress payment rates and maximum performance-based payment rates based on whether the offeror/contractor has met certain performance criteria.

II. Public Meeting

DoD is hosting a public meeting on October 10, 2018, to obtain views of experts and interested parties in Government and the private sector regarding revising policies and procedures with regard to customary progress payment rates and maximum performance-based payment rates for DoD contracts.

Registration: To ensure adequate room accommodations and to facilitate security screening and entry to the Mark Center, individuals wishing to attend the public meeting must register by 12 p.m., EST, on October 4, 2018, by sending the following information via email to osd.dfars@mail.mil:

(1) Company or organization name.

(2) Full name, valid email address, and telephone number of each person planning to attend, and whether the individual is a U.S. citizen.

(3) Name, title, organizational affiliation of presenter, if desiring to make a presentation, limited to a 5-minute presentation per company or organization. This limitation may be subject to adjustment, depending on the number of entities requesting to present, in order to ensure adequate time for discussion.

Building entry: For each registrant, the Pentagon Force Protection Agency will send additional instructions to the email address provided at the time of registration. The registrant must follow the instructions in the email in order to be approved for entry to the Mark Center.

One valid government-issued photo identification card (i.e., driver's license or passport) will be required in order to enter the building.

Attendees are encouraged to arrive at least 45 minutes early to accommodate security procedures. Public parking is not available at the Mark Center.

Presentations: If you wish to make a presentation, please submit an electronic copy of your presentation to osd.dfars@mail.mil by 12 p.m., EST, on October 4, 2018. When submitting a presentation, provide the presenter's name, organization affiliation, telephone number, and email address on the cover page. Please submit presentations only and cite “Public Meeting, DFARS Case 2017-D019” in all correspondence related to the public meeting. There will be no transcription at the meeting. The submitted presentations will be the only record of the public meeting and will be posted to the following website at the conclusion of the public meeting: https://www.acq.osd.mil/dpap/dars/performance-based_payments_and_progress_payments.html.

Special accommodations: The public meeting is physically accessible to people with disabilities. Requests for reasonable accommodations, sign language interpretation or other auxiliary aids should be directed to Daniel Weinstein at 571-372-6105, by no later than October 1, 2018.

The TTY number for further information is: 1-800-877-8339. When the operator answers the call, let him or her know the agency is the Department of Defense; the point of contact is Daniel Weinstein at 571-372-6105.

Correspondence and comments: Please cite “Public Meeting, DFARS Case 2017-D019” in all correspondence related to this public meeting. The submitted presentations will be the only record of the public meeting. To have a presentation considered as a public comment for the formation of the final rule, the presentation, or pertinent excerpts, must be submitted separately as a written comment as instructed in the paragraph titled “Submission of Comments” in ADDRESSES.

48 CFR Parts 232, 242, and 252 Government procurement.

Jennifer Lee Hawes,
Regulatory Control Officer, Defense Acquisition Regulations System.

[FR Doc. 2018-20626 Filed 9-20-18; 8:45 am]

BILLING CODE 5001-06-P